DEPARTMENT OF ENERGY

Federal Energy Regulatory Commission

Combined Notice of Filings #2

Take notice that the Commission received the following electric rate filings:

Docket Numbers: ER14-1248-001.

Applicants: Southwestern Electric Power Company.

Description: Compliance filing per 35: SWEPCO—Hope PSA Amendment SPP IM Compliance to be effective 3/1/2014.

Filed Date: 11/20/14.

Accession Number: 20141120-5135.

Comments Due: 5 p.m. ET 12/11/14.

Docket Numbers: ER14-1249-001.

Applicants: Southwestern Electric Power Company.

Description: Compliance filing per 35: SWEPCO-Bentonville PSA Amendment SPP IM Compliance to be effective 3/1/2014.

Filed Date: 11/20/14.

Accession Number: 20141120-5137.

Comments Due: 5 p.m. ET 12/11/14.

Docket Numbers: ER14-1250-001.

Applicants: Southwestern Electric Power Company.

Description: Compliance filing per 35: SWEPCO-Prescott PSA Amendment SPP IM Compliance to be effective 3/1/2014.

Filed Date: 11/20/14.

Accession Number: 20141120-5136.

Comments Due: 5 p.m. ET 12/11/14.

Docket Numbers: ER14-2599-001.

Applicants: Midcontinent Independent System Operator, Inc.

Description: Compliance filing per 35: 2014-11-20 Bi-Directional EARS Compliance Filing to be effective 3/1/2015.

Filed Date: 11/20/14.

Accession Number: 20141120-5133.

Comments Due: 5 p.m. ET 12/11/14.

Docket Numbers: ER15-452-000.

Applicants: Arizona Public Service Company.

Description: § 205(d) rate filing per 35.13(a)(2)(iii): Service Agreement No. 303 Amendment 2 to be effective 10/21/2014.

Filed Date: 11/20/14.

Accession Number: 20141120-5140.

Comments Due: 5 p.m. ET 12/11/14.

Docket Numbers: ER15-453-000.

Applicants: PJM Interconnection, L.L.C.

Description: § 205(d) rate filing per 35.13(a)(2)(iii): Service Agreement No. 4033; Queue No. X3-008 to be effective 11/3/2014.

Filed Date: 11/20/14.

Accession Number: 20141120-5157.

Comments Due: 5 p.m. ET 12/11/14.

Docket Numbers: ER15-454-000.

Applicants: Pacific Gas and Electric Company.

Description: § 205(d) rate filing per 35.13(a)(2)(iii): Western-PWRPA WSID TFA Filing to be effective 11/21/2014.

Filed Date: 11/20/14.

Accession Number: 20141120-5170.

Comments Due: 5 p.m. ET 12/11/14.

Docket Numbers: ER15-455-000.

Applicants: Lexington Power & Light, LLC.

Description: § 205(d) rate filing per 35.13(a)(2)(iii): CIS & Tariff Revisions to be effective 1/19/2015.

Filed Date: 11/20/14.

Accession Number: 20141120-5172.

Comments Due: 5 p.m. ET 12/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2014.
Nathaniel J. Davis, Sr.,
Deputy Secretary.

[FR Doc. 2014-28110 Filed 11-26-14; 8:45 am]

BILLING CODE 6717-01-P